MISSISSIPPI RIVER COMMISSION

Sunshine Act Meetings

Agency Holding the Meetings: Mississippi River Commission.

Time and Date: 8:30 a.m., March 4, 2002.

Place: On board MISSISSIPPI V at City Front, Cairo, IL.

Status: Open to the public.

Matters to be Considered: (1) State of the Valley Report by President of the Commission on general conditions of the Mississippi River and Tributaries project and regional and national issues affecting the Corps of Engineers programs and projects; (2) District Commander's report on the Mississippi River and Tributaries project within Memphis District area; and (3) Presentations by public participants on Corps of Engineers issues.

Time and Date: 9 a.m., March 5, 2002.

Place: On board MISSISSIPPI V at Mud Island River Park Landing, Memphis, TN.

Status: Open to the public.

Matters to be Considered: (1) State of the Valley Report by President of the Commission on general conditions of the Mississippi River and Tributaries project and regional and national issues affecting the Corps of Engineers programs and projects; (2) District Commander's report on the Mississippi River and Tributaries project within Memphis District area; and (3) Presentations by public participants on Corps of Engineers issues.

Time and Date: 3:00 p.m., March 6, 2002.

Place: On board MISSISSIPPI V at City Front, Vicksburg, MS.

Status: Open to the public.

Matters to be Considered: (1) State of the Valley Report by President of the Commission on general conditions of the Mississippi River and Tributaries project and regional and national issues affecting the Corps of Engineers programs and projects; (2) District Commander's report on the Mississippi River and Tributaries project within Vicksburg District area; and (3) Presentations by public participants on Corps of Engineers issues.

Time and Date: 1:30 p.m., March 7, 2002.

Place: On board MISSISSIPPI V at City Dock above USS Kidd, Baton Rouge, LA.

Status: Open to the public.

Matters to be Considered: (1) State of the Valley Report by President of the Commission on general conditions of the Mississippi River and Tributaries project and regional and national issues affecting the Corps of Engineers programs and projects; (2) District Commander's report on the Mississippi River and Tributaries project within New Orleans District area; and (3) Presentations by public participants on Corps of Engineers issues.

CONTACT PERSON FOR MORE INFORMATION: Mr. Stephen Gambrell, telephone 601-634-5766.

Luz D. Ortiz,
Army Federal Register Liaison Officer.

[FR Doc. 02-2218 Filed 1-25-02; 11:53 am]

BILLING CODE 3710-GX-M